DEPARTMENT OF HOMELAND SECURITY

Customs and Border Protection

[Docket No. USCBP-2015-0011]

Advisory Committee on Commercial Operations to U.S. Customs and Border Protection (COAC)

AGENCY: U.S. Customs and Border Protection, Department of Homeland Security (DHS).

SUMMARY: The Advisory Committee on Commercial Operations to U.S. Customs and Border Protection (COAC) will meet on April 24, 2015, in Washington, DC. The meeting will be open to the public.

DATES: The Advisory Committee on Commercial Operations to U.S. Customs and Border Protection (COAC) will meet on Friday, April 24, 2015, from 9:00 a.m. to 12:30 p.m. EDT. Please note that the meeting may close early if the committee has completed its business.

Pre-Registration: Meeting participants may attend either in person or via webinar after pre-registering using a method indicated below:

—For members of the public who plan to attend the meeting in person, please register either online at https://apps.cbp.gov/te_reg/index.asp?w=39; by email to tradeevents@dhs.gov; or by fax to (202) 325-4290 by 5:00 p.m. EDT on April 21, 2015. You must register prior to the meeting in order to attend the meeting in person.

—For members of the public who plan to participate via webinar, please register online at https://apps.cbp.gov/te_reg/index.asp?w=40 by 5:00 p.m. EDT on April 21, 2015.

Feel free to share this information with other interested members of your organization or association.

Members of the public who are pre-registered and later require cancellation, please do so in advance of the meeting by accessing one (1) of the following links: https://apps.cbp.gov/te_reg/cancel.asp?w=39 to cancel an in person registration, or https://apps.cbp.gov/te_reg/cancel.asp?w=40 to cancel a webinar registration.

ADDRESSES: The meeting will be held at the International Trade Commission in the Main Hearing Room 101, 500 E Street SW., Washington, DC 20436.

All visitors to the International Trade Commission Building must show a state-issued ID or Passport to proceed through the security checkpoint for admittance to the building. There will be signage posted directing visitors to the location of the Main Hearing Room.

For information on facilities or services for individuals with disabilities or to request special assistance at the meeting, contact Ms. Wanda Tate, Office of Trade Relations, U.S. Customs and Border Protection at (202) 344-1661 as soon as possible.

To facilitate public participation, we are inviting public comment on the issues to be considered by the committee prior to the formulation of recommendations as listed in the “Agenda” section below.

Comments must be submitted in writing no later than April 15, 2015, and must be identified by Docket No. USCBP-2015-0011, and may be submitted by one of the following methods:

• Federal eRulemaking Portal: http://www.regulations.gov. Follow the instructions for submitting comments.

• Email: Tradeevents@dhs.gov. Include the docket number in the subject line of the message.

• Fax: (202) 325-4290

• Mail: Ms. Wanda Tate, Office of Trade Relations, U.S. Customs and Border Protection, 1300 Pennsylvania Avenue NW., Room 3.5A, Washington, DC 20229.

Instructions: All submissions received must include the words “Department of Homeland Security” and the docket number for this action. Comments received will be posted without alteration at http://www.regulations.gov, including any personal information provided. Do not submit personal information to this docket.

Docket: For access to the docket or to read background documents or comments, go to http://www.regulations.gov and search for Docket Number USCBP-2015-0011. To submit a comment, see the link on the Regulations.gov Web site for “How do I submit a comment?” located on the right hand side of the main site page.

There will be multiple public comment periods held during the meeting on April 24, 2015. Speakers are requested to limit their comments to two (2) minutes or less to facilitate greater participation. Contact the individual listed below to register as a speaker. Please note that the public comment period for speakers may end before the time indicated on the schedule that is posted on the CBP Web page, http://www.cbp.gov/trade/stakeholder-engagement/coac, at the time of the meeting.

FOR FURTHER INFORMATION CONTACT: Ms. Wanda Tate, Office of Trade Relations, U.S. Customs and Border Protection, 1300 Pennsylvania Avenue NW., Room 3.5A, Washington, DC 20229; telephone (202) 344-1440; facsimile (202) 325-4290.

SUPPLEMENTARY INFORMATION: Notice of this meeting is given under the Federal Advisory Committee Act, 5 U.S.C. Appendix 2. The Advisory Committee on Commercial Operations to U.S. Customs and Border Protection (COAC) provides advice to the Secretary of Homeland Security, the Secretary of the Treasury, and the Commissioner of U.S. Customs and Border Protection (CBP) on matters pertaining to the commercial operations of CBP and related functions within Department of Homeland Security and the Department of the Treasury.

Agenda

The Advisory Committee on Commercial Operations to U.S. Customs and Border Protection (COAC) will hear from the following subcommittees on the topics listed below and then will review, deliberate, provide observations, and formulate recommendations on how to proceed on those topics:

1. The One U.S. Government Subcommittee will discuss the Automated Commercial Environment, Partner Government Agencies and International Interoperability (World Customs Organization).

2. The Exports Subcommittee will address policy and a strategic approach regarding exports. The subcommittee will work in close collaboration with One U.S. Government Subcommittee.

3. The Trade Enforcement Subcommittee will discuss policy to include metrics and implementation through Centers of Excellence and Expertise.

4. The Global Supply Chain Subcommittee will discuss Customs—Trade Partnership Against Terrorism, Land ports of entry (Canada and Mexico), Ocean Cargo, In-Transit and Air Cargo Advance Screening.

5. The Trusted Trader Subcommittee will start work once the pilot has advanced to the implementation phase for testing U.S. Customs and Border Protection and Partner Government Agency trade benefits.

6. The Trade Modernization Subcommittee will discuss International Strategy (World Trade Organization Trade Facilitation Agreement, Trans Pacific Partnership, and World Customs Organization), Trade Expertise and Revenue Modernization.

Dated: April 1, 2015.
Maria Luisa Boyce,
Senior Advisor for Private Sector Engagement, Office of Trade Relations.

[FR Doc. 2015-07867 Filed 4-3-15; 8:45 am]

BILLING CODE 9111-14-P